DEPARTMENT OF THE TREASURY

Office of Foreign Assets Control

Notice of OFAC Sanctions Action

AGENCY: Office of Foreign Assets Control, Treasury.

ACTION: Notice.

SUMMARY: The Department of the Treasury's Office of Foreign Assets Control (OFAC) is publishing the name of one person that has been placed on OFAC's Specially Designated Nationals and Blocked Persons List (SDN List) based on OFAC's determination that one or more applicable legal criteria were satisfied. All property and interests in property subject to U.S. jurisdiction of this person are blocked, and U.S. persons are generally prohibited from engaging in transactions with them.

DATES: See Supplementary Information section for applicable date.

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (www.treasury.gov/ofac).

Notice of OFAC Action

On February 3, 2022, OFAC determined that the property and interests in property subject to U.S. jurisdiction of the following person are blocked under the relevant sanctions authority listed below.

Entity

1. WORLD HUMAN CARE, Jl. Witanaharja III blok C/137, Pamulang Bara, Pamulang, Tangerang Selatan, Banten, Indonesia; Komp. Setia Bina Sarana Jl. Ciremai Raya Blok AB 3 No. 9 RT 05/RW 07, Kelurahan Harapan Jaya Kecamatan Bekasi Utara, Bekasi 170124, Indonesia; Jln. Siliwangi Raya Blok D3 no. 7, Pamulang Permai 1, Pamulang Barat, Taggerang Selatan 15417, Indonesia; Markaz Syria Today—WHC Iblien Village, Jabalzawiyah, Idlib Province, Syria; website https://www.whc.or.id; Secondary sanctions risk: section 1(b) of Executive Order 13224, as amended by Executive Order 13886; Registration Number AHU-09363.50.10.2014 (Indonesia) issued 20 Nov 2014 [SDGT] (Linked To: MAJELIS MUJAHIDIN INDONESIA).

Designated pursuant to section 1(a)(iii)(C) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having materially assisted, sponsored, or provided financial, material, or technological support for, or goods or services to or in support of, MAJELIS MUJAHIDIN INDONESIA, a person whose property and interests in property are blocked pursuant to E.O. 13224.

Dated: February 3, 2022.
Andrea M. Gacki
Director, Office of Foreign Assets Control, U.S. Department of the Treasury.

[FR Doc. 2022-02659 Filed 2-8-22; 8:45 am]

BILLING CODE 4810-AL-P